DEPARTMENT OF TRANSPORTATION

Federal Aviation Administration

14 CFR Part 39

[Docket No. FAA-2017-0248; Product Identifier 2016-NM-088-AD; Amendment 39-19054; AD 2017-19-24]

RIN 2120-AA64

Airworthiness Directives; Airbus Airplanes

AGENCY: Federal Aviation Administration (FAA), Department of Transportation (DOT).

ACTION: Final rule.

SUMMARY: We are superseding Airworthiness Directive (AD) 2014-26-10, which applied to all Airbus Model A318, A319, A320, and A321 series airplanes. AD 2014-26-10 required revising the maintenance or inspection program to incorporate maintenance requirements and airworthiness limitations. This new AD requires revising the maintenance or inspection program, as applicable, to incorporate new or revised airworthiness limitation requirements. This AD was prompted by a determination that more restrictive maintenance instructions and airworthiness limitations are necessary. We are issuing this AD to address the unsafe condition on these products.

DATES: This AD is effective November 1, 2017.

The Director of the Federal Register approved the incorporation by reference of a certain publication listed in this AD as of November 1, 2017.

The Director of the Federal Register approved the incorporation by reference of a certain other publication listed in this AD as of February 25, 2015 (80 FR 2813, January 21, 2015).

ADDRESSES: For service information identified in this final rule, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0248.

Examining the AD Docket

You may examine the AD docket on the Internet at http://www.regulations.gov by searching for and locating Docket No. FAA-2017-0248; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone: 425-227-1405; fax: 425-227-1149.

SUPPLEMENTARY INFORMATION:

Discussion

We issued a notice of proposed rulemaking (NPRM) to amend 14 CFR part 39 to supersede AD 2014-26-10, Amendment 39-18061 (80 FR 2813, January 21, 2015) (“AD 2014-26-10”). AD 2014-26-10 applied to all Airbus Model A318, A319, A320, and A321 series airplanes. The NPRM published in the Federal Register on April 13, 2017 (82 FR 17770). The NPRM was prompted by a determination that more restrictive maintenance instructions and airworthiness limitations are necessary. The NPRM proposed to require revising the maintenance or inspection program, as applicable, to incorporate new or revised airworthiness limitation requirements. The NPRM also proposed to remove airplanes from the applicability. We are issuing this AD to mitigate the risks associated with aging effects of airplane systems. Such aging effects could change the characteristics of the systems leading to an increased potential for failure, which could result in failure of certain life-limited parts, and reduced structural integrity or reduced controllability of the airplane.

The European Aviation Safety Agency (EASA), which is the Technical Agent for the Member States of the European Union, has issued EASA AD 2016-0093, dated May 13, 2016 (referred to after this as the Mandatory Continuing Airworthiness Information, or “the MCAI”), to correct an unsafe condition for all Airbus Model A318, A319, A320, and A321 series airplanes. The MCAI states:

The airworthiness limitations for Airbus A320 family aeroplanes are currently defined and published in Airbus A318/A319/A320/A321 Airworthiness Limitations Section (ALS) documents. The airworthiness limitations applicable to the System Equipment Maintenance Requirements, which are approved by [European Aviation Safety Agency] EASA, are specified in ALS Part 4.

The instructions contained in the ALS Part 4 have been identified as mandatory actions for continued airworthiness. Failure to comply with these instructions could result in an unsafe condition.

Previously, EASA issued AD 2013-0146 [which corresponds to FAA AD 2014-26-10] to require accomplishment of all maintenance actions as described in ALS Part 4 at Revision 01. The new ALS Part 4 Revision 03 (hereafter referred to as `the ALS' in this AD) includes new and/or more restrictive requirements. ALS Part 4 Revision 03, issue 02, has been released to include editorial changes.

For the reason described above, this [EASA] AD retains the requirements of EASA AD 2013-0146, which is superseded, and requires accomplishment of the actions specified in the ALS.

You may examine the MCAI in the AD docket on the Internet at http://www.regulations.gov by searching for and locating Docket No. FAA-2017-0248.

Comments

We gave the public the opportunity to participate in developing this AD. We considered the comments received. Camp Systems International, Daniel Systems Inc., and United Airlines supported the NPRM.

Request To Incorporate Current ALS Revision

American Airlines (AAL) asked that a provision be incorporated into the proposed AD to approve use of Airbus A318/A319/A320/A321 ALS Part 4, “System Equipment Maintenance Requirements (SEMR)”, Revision 05, dated April 6, 2017 (“ALS Part 4, Revision 05”), as an additional means of compliance with the maintenance or inspection program. AAL stated that ALS Part 4, Revision 05 is the latest revision level for ALS Part 4, and approving it would potentially alleviate a future alternative method of compliance (AMOC) request.

We acknowledge the commenter's concern. We have issued global AMOCs to AD 2014-26-10, which allow all operators of U.S.-registered airplanes to use Airbus A318/A319/A320/A321 ALS Part 4, “System Equipment Maintenance Requirements (SEMR)”, Revision 04, dated July 6, 2016, and Airbus A318/A319/A320/A321 ALS Part 4, “System Equipment Maintenance Requirements (SEMR)”, Revision 05, dated April 6, 2017. These AMOCs are included in paragraph (k)(1)(ii) of this AD, which states that AMOCs approved previously for AD 2014-26-10 are approved as AMOCs for the corresponding provisions of paragraph (g) of this AD. In addition, these AMOCs are also applicable to the revision required by paragraph (i) of this AD. Therefore, we have added paragraph (k)(1)(iii) to this AD to specify the previous AMOCs that are approved for the provisions of paragraph (i) of this AD.

Conclusion

We reviewed the available data, including the comments received, and determined that air safety and the public interest require adopting this AD with the change described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR part 51

Airbus has issued Airbus A318/A319/A320/A321 ALS Part 4, “System Equipment Maintenance Requirements (SEMR),” Revision 03 at Issue 02, dated January 22, 2016. This service information describes preventive maintenance requirements and includes updated inspections and intervals to be incorporated into the maintenance or inspection program. This service information is reasonably available because the interested parties have access to it through their normal course of business or by the means identified in the ADDRESSES section.

Costs of Compliance

We estimate that this AD affects 1,032 airplanes of U.S. registry.

The actions required by AD 2014-26-10, and retained in this AD take about 1 work-hour per product, at an average labor rate of $85 per work-hour. Based on these figures, the estimated cost of the actions that are required by AD 2014-26-10 is $85 per product.

We also estimate that it would take about 1 work-hour per product to comply with the basic requirements of this AD. The average labor rate is $85 per work-hour. Based on these figures, we estimate the cost of this AD on U.S. operators to be $87,720, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-26-10, Amendment 39-18061 (80 FR 2813, January 21, 2015), and adding the following new AD:

2017-19-24 Airbus: Amendment 39-19054; Docket No. FAA-2017-0248; Product Identifier 2016-NM-088-AD.

(a) Effective Date

This AD is effective November 1, 2017.

(b) Affected ADs

This AD replaces AD 2014-26-10, Amendment 39-18061 (80 FR 2813, January 21, 2015) (“AD 2014-26-10”).

(c) Applicability

This AD applies to the Airbus airplanes identified in paragraphs (c)(1), (c)(2), (c)(3), and (c)(4) of this AD; certificated in any category; with an original certificate of airworthiness or original export certificate of airworthiness issued on or before December 21, 2015.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 05, Time Limits/Maintenance Checks.

(e) Reason

This AD was prompted by a determination that more restrictive maintenance instructions and airworthiness limitations are necessary. We are issuing this AD to mitigate the risks associated with aging effects of airplane systems. Such aging effects could change the characteristics of the systems leading to an increased potential for failure, which could result in failure of certain life-limited parts, and reduced structural integrity or reduced controllability of the airplane.

(f) Compliance

Comply with this AD within the compliance times specified, unless already done.

(g) Retained Requirement: Maintenance or Inspection Program Revision, With New Reference To Terminating Action

This paragraph restates the requirements of paragraph (g) of AD 2014-26-10, with new reference to terminating action. Within 30 days after February 25, 2015 (the effective date of AD 2014-26-10): Revise the maintenance or inspection program, as applicable, to incorporate Airbus A318/A319/A320/A321 Airworthiness Limitations Section, ALS Part 4, “Aging Systems Maintenance,” Revision 01, dated June 15, 2012. The initial compliance time for doing the actions is at the applicable time specified in Airbus A318/A319/A320/A321 Airworthiness Limitations Section, ALS Part 4, “Aging Systems Maintenance,” Revision 01, dated June 15, 2012; or within 2 weeks after revising the maintenance or inspection program; whichever occurs later. Accomplishing the actions specified in paragraph (i) of this AD terminates the requirements of this paragraph.

(h) Retained Requirement: No Alternative Actions or Intervals, With New Paragraph Reference

This paragraph restates the requirements of paragraph (h) of AD 2014-26-10, with a new paragraph reference. Except as required by paragraph (i) of this AD, after accomplishment of the revision required by paragraph (g) of this AD, no alternative actions (e.g., inspections) or intervals may be used unless the actions or intervals are approved as an alternative method of compliance (AMOC) in accordance with the procedures specified in paragraph (k)(1) of this AD.

(i) New Requirement: Maintenance or Inspection Program Revision

Within 30 days after the effective date of this AD: Revise the maintenance or inspection program, as applicable, to incorporate Airbus A318/A319/A320/A321 Airworthiness Limitations Section (ALS) Part 4, “System Equipment Maintenance Requirements (SEMR),” Revision 03 at Issue 02, dated January 22, 2016. The initial compliance time for doing the actions is at the applicable time specified in Airbus A318/A319/A320/A321 Airworthiness Limitations Section, ALS Part 4, “System Equipment Maintenance Requirements (SEMR),” Revision 03 at Issue 02, dated January 22, 2016; or within 2 weeks after revising the maintenance or inspection program; whichever occurs later. Accomplishing the actions specified in this paragraph terminates the requirements of paragraph (g) of this AD.

(j) New Provision: No Alternative Actions or Intervals

After the action required by paragraph (i) of this AD has been done, no alternative actions (e.g., inspections) or intervals may be used unless the actions or intervals are approved as an AMOC in accordance with the procedures specified in paragraph (k)(1) of this AD.

(k) Other FAA AD Provisions

The following provisions also apply to this AD:

(1) Alternative Methods of Compliance (AMOCs): The Manager, International Branch, Transport Standards Branch, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, Transport Standards Branch, FAA, 1601 Lind Avenue SW., Renton, WA 98057-3356; telephone: 425-227-1405; fax: 425-227-1149. Information may be emailed to: 9-ANM-116-AMOC-REQUESTS@faa.gov.

(i) Before using any approved AMOC, notify your appropriate principal inspector, or lacking a principal inspector, the manager of the local flight standards district office/certificate holding district office.

(ii) AMOCs approved previously for AD 2014-26-10 are approved as AMOCs for the corresponding provisions of paragraph (g) of this AD.

(iii) AMOCs approved previously for AD 2014-26-10, which are included in the AMOC letters specified in paragraphs (k)(1)(iii)(A) and (k)(1)(iii)(B), are approved as AMOCs for the provisions of paragraph (i) of this AD.

(A) AMOC letter ANM-116-17-002R1, dated November 14, 2016.

(B) AMOC letter ANM-116-17-323, dated June 12, 2017.

(2) Contacting the Manufacturer: As of the effective date of this AD, for any requirement in this AD to obtain corrective actions from a manufacturer, the action must be accomplished using a method approved by the Manager, International Section, Transport Standards Branch, FAA; or the European Aviation Safety Agency (EASA); or EASA Design Organization Approval (DOA). If approved by the DOA, the approval must include the DOA-authorized signature.

(l) Related Information

(1) Refer to Mandatory Continuing Airworthiness Information (MCAI) EASA AD 2016-0093, dated May 13, 2016, for related information. This MCAI may be found in the AD docket on the Internet at http://www.regulations.gov by searching for and locating Docket No. FAA-2017-0248.

(2) For more information about this AD, contact Sanjay Ralhan, Aerospace Engineer, International Section, Transport Standards Branch, FAA, 1601 Lind Avenue SW., Renton, WA 98057-3356; telephone: 425-227-1405; fax: 425-227-1149. Information may be emailed to: 9-ANM-116-AMOC-REQUESTS@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 1, 2017.

(i) Airbus A318/A319/A320/A321 Airworthiness Limitations Section (ALS) Part 4, “System Equipment Maintenance Requirements (SEMR),” Revision 03 at Issue 02, dated January 22, 2016.

(ii) Reserved.

(4) The following service information was approved for IBR on February 25, 2015 (80 FR 2813, January 21, 2015).

(i) Airbus A318/A319/A320/A321 Airworthiness Limitations Section, ALS Part 4, “Aging Systems Maintenance,” Revision 01, dated June 15, 2012. The revision level of this document is identified on only the title page and in the Record of Revisions. The revision date is not identified on the title page of this document.

(ii) Reserved.

(5) For service information identified in this AD, contact Airbus, Airworthiness Office—EIAS, 1 Rond Point Maurice Bellonte, 31707 Blagnac Cedex, France; telephone: +33 5 61 93 36 96; fax: +33 5 61 93 44 51; email: account.airworth-eas@airbus.com; Internet: http://www.airbus.com.

(6) You may view this service information at the FAA, Transport Standards Branch, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on September 14, 2017.
Jeffrey E. Duven,
Director, System Oversight Division, Aircraft Certification Service.

[FR Doc. 2017-20113 Filed 9-26-17; 8:45 am]

BILLING CODE 4910-13-P